DEPARTMENT OF TRANSPORTATION

Federal Aviation Administration

Notice of Availability of Draft Environmental Impact Statement (DEIS) Containing a Draft Air Quality General Conformity Determination (DGCD) and Draft Section 106 Historic Resources Report; Notice of Public Comment Period and Schedule of Public Information Meetings and Public Hearings for Proposed New Runways and Associated Development at Washington Dulles International Airport, Chantilly, VA

AGENCY: Federal Aviation Administration (FAA), DOT. The U.S. Army Corps of Engineers (USACE) is a cooperating federal agency, having jurisdiction by law because the proposed federal action has the potential for significant wetland impacts.

ACTION: Notice of availability, notice of comment period, notice of Public Information Meetings and Public Hearings.

SUMMARY: The Federal Aviation Administration (FAA) is issuing this notice to advise the public that a Draft Environmental Impact Statement (DEIS)—Proposed New Runways and Associated Development at Washington Dulles International Airport, has been prepared and is available for public review and comment. The DEIS incorporates a Draft Air Quality General Conformity Determination (DGCD) and Draft Section 106 Historic Resources Report. Written requests for the DEIS and written comments on the DEIS and related documents can be submitted to the individual listed in the section FOR FURTHER INFORMATION CONTACT. Public Information Meetings and Public Hearings will be held on February 22 and February 23, 2005. The public comment periods will commence on January 21, 2005 and will close on March 7, 2005.

Public Comment and Information Meetings/Public Hearings: The start of the public comment period on the DEIS and associated studies will be January 21, 2005 and will end on March 7, 2005. Public Information Meetings and Public Hearings will be held on February 22, 2005 in Loudoun County and on February 23, 2005 in Fairfax County. The Public Information Meetings will begin at 5 p.m. (EST) and will last until 8 p.m. (EST). The Public Hearings will be conducted concurrently with the information meetings and will begin at 6 p.m. (EST). The location for the Public Information Meetings/Public Hearings is as follows: February 22, 2005, Loudoun County, Farmwell Station Middle School, 44281 Glouscester Parkway, Ashburn, VA; February 23, 2005, Fairfax County, Stone Middle School, 5500 Sully Park Drive, Centreville, VA.

Copies of the DEIS and related documents may be viewed during regular business hours at the following locations:

1. Centreville Regional Library, 14200 St. Germaine Drive, Centreville, VA.

2. Chantilly Regional Library, 4000 Stringfellow Road, Chantilly, VA.

3. Great Falls Library, 9830 Georgetown Pike, Great Falls, VA.

4. Herndon Fortnightly Library, 768 Center Street, Herndon, VA.

5. Reston Regional Library, 11925 Bowman Towne Drive, Reston, VA.

6. Fairfax City Regional Library, 3915 Chain Bridge Road, Fairfax, VA.

7. Ashburn Library, 43316 Hay Road, Ashburn, VA.

8. Rust Library, 380 Old Waterford Road, Leesburg, VA.

9. Middleburg Library, 101 Reed Street, Middleburg, VA.

10. Purcellville Library, 220 E. Main Street, Purcellville, VA.

11. Sterling Library, 120 Enterprise Street, Sterling, VA.

12. Eastern Loudoun Regional Library, 21030 Whitfield Place, Sterling, VA.

13. Tysons-Pimmit Regional Library, 7584 Leesburg Pike, Falls Church, VA.

A limited number of copies of the DEIS and related documents will also be available for review by appointment only at the following FAA/Metropolitan Washington Airports Authority (MWAA) Offices. Please call to make arrangements for viewing: Federal Aviation Administration, Washington Airports District Office, 23723 Air Freight Lane, Suite 210, Dulles, VA, (703) 661-1364; Washington Dulles International Airport, Airport Managers Office, Main Terminal Baggage Claim Level, Dulles, VA, (703) 572-2710. An Executive Summary will be available January 21, 2005 on Dulles Airport's Web site at http://www.mwaa.com/dulles/EnvironmentalStudies/RunwaysEIS.htm.

FOR FURTHER INFORMATION CONTACT: Brad Mehaffy, Environmental Specialist, Federal Aviation Administration, Washington Airports District Office, 23723 Air Freight Lane, Suite 210, Dulles, VA. Mr. Mehaffy can be contacted at (703) 661-1364.

SUPPLEMENTARY INFORMATION: The Federal Aviation Administration (FAA) is issuing this Notice of Availability to advise the public that a Draft Environmental Impact Statement (DEIS) containing a Draft Air Quality General Conformity Determination (DGCD) and Draft Section 106 Historic Resources Report will be available for public review beginning January 21, 2005. The DEIS details the proposed development of two new runways, terminal facilities, and related facilities at Washington Dulles International Airport (IAD), Dulles, Virginia.

The U.S. Army Corps of Engineers (USACE) is a cooperating federal agency, having jurisdiction by law because the proposed federal action has the potential for significant wetland impacts.

The DEIS presents the purpose and need for the proposed project, a comprehensive analysis of the alternatives to the proposed project, including the no-action alternative and potential environmental impacts associated with the proposed development of two new air carrier runways and related improvements at IAD.

In accordance with section 176(c) of the Federal Clean Air Act, FAA has assessed whether the air emissions that would result from FAA's action in approving the proposed projects conform with the State Implementation Plan (SIP). This assessment is contained in the Draft Air Quality General Conformity Determination.

Pursuant to the Coastal Zone Management Act of 1972, as amended, this project is being evaluated for consistency with the Virginia Coastal Program. Section 306(d)(14) of the CZMA requires public participation in the Federal consistency review process.

The Public Workshops/Hearings are also being conducted pursuant to MWAA's 1987 Programmatic Memorandum of Agreement with the Virginia State Historic Preservation Officer and the Adivosry Council on Historic Preservation (as regards Section 106 of the National Historic Preservation Act of 1966-36 CFR 800).

The FAA encourages all interested parties to provide comments concerning the scope and content of the DEIS, Draft Air Quality General Conformity Determination and Draft Section 106 Historic Resources Report. Comments should be as specific as possible and address the analysis of potential environmental impacts and the adequacy of the proposed action or merits of alternatives and the mitigation being considered. Reviewers should organize their participation so that it is meaningful and makes the agencies aware of the viewer's interests and concerns using quotations and other specific references to the text of the DEIS and related documents. Matters that could have been raised with specificity during the DEIS comment period may not be considered if they are raised later in the decision making process. This commenting procedure is intended to ensure that substantive comments and concerns are made available to the FAA in a timely manner so that the FAA has an opportunity to address them.

Comments from interested parties on the DEIS and related documents are encouraged and may be presented verbally or in writing at the Public Information Meetings and/or Public Hearings or may be submitted in writing to the FAA at the address listed in the section entitled FOR FURTHER INFORMATION CONTACT. The comment period will close on March 7, 2005.

Issued in Dulles, Virginia, on January 7, 2005.
Terry Page,
Manager, Washington Airports District Office, Federal Aviation Administration.

[FR Doc. 05-855 Filed 1-13-05; 8:45 am]

BILLING CODE 4910-13-M